FEDERAL MARITIME COMMISSION

Ocean Transportation Intermediary License Applicants

Notice is hereby given that the following applicants have filed with the Federal Maritime Commission an application for license as a Non-Vessel-Operating Common Carrier and Ocean Freight Forwarder-Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel-Operating Common Carrier Ocean Transportation Intermediary Applicants

Harold Kass Worldwide Moving, Inc., 3641 S. Washtenaw Avenue, Chicago, IL 60632. Officers: Jonathan Tovy, President (Qualifying Individual), Robert Goldwasser, Director.

Global Partner Logistics NY, Inc., 7 River Street, #91, Little Ferry, NJ 07643. Officers: Yoon Ho Cho, President (Qualifying Individual), Kristi Bang, Secretary.

Moog International, Inc. dba Upak International dba Moog Project Logistics, 1223 Grove Road, Pittsburgh, PA 15234. Officer: Ronald P. Moog, President (Qualifying Individual).

M & H Shipping Corporation, 125-21 Metropolitan Avenue, Kew Gardens, NY 11415. Officers: Chitpaing Kyo, Vice President (Qualifying Individual), Fuliang Zhou, President.

Diarama Export, Inc., 2754 NW North River Drive, Miami, FL 33142. Officer: Dinorah P. Aguiar, President (Qualifying Individual).

Honda Logistics Inc., Win-Aoyama 201, 2-2-15, Minami-Aoyama, Minato-Ku, Tokyo 107-0062 Japan. Officers: Toshikazu Matsuoka, Managing Director (Qualifying Individual), Yoshiki Ishda, President.

Barconsa S.A. Inc. dba Barconsa Consolidated Freight, 2944 NW. 72 Avenue, Miami, FL 33122. Officers: Winston F. Barberan, President (Qualifying Individual), Ivy Barberan, Secretary.

Non-Vessel-Operating Common Carrier and Ocean Freight Forwarder Transportation Intermediary Applicants

Panda Logistics Chicago, Inc., 945 N. Edgewood Avenue, Suite F, Wood Dale, IL 60191. Officer: Cooper Chao, CEO (Qualifying Individual).

Excel Express Cargo Corp., 8430 NW. 66 Street, Miami, FL 33166. Officers: Rosy Huc, Ocean Manager (Qualifying Individual), Carlos Parra, Vice President.

Idea Global, LLC, 2428 Crittenden Drive, Louisville, KY 40217. Officers: Michael L. Smith, Manager (Qualifying Individual), Jerry Hahn, Asst. Manager.

Transmec MP USA LLC dba TS Line, 770 Foster Avenue, Bensenville, IL 60106. Officers: Bozidar Vavich, President (Qualifying Individual), Ralph Federico, Vice President.

Diversified Global Logistics, Inc., 5375 Mineral Wells, Memphis, TN 38141. Officers: Linda R. Snyder, President (Qualifying Individual), Bernard F. Snyder, Vice President.

Ocean Freight Forwarder-Ocean Transportation Intermediary Applicants

Jamaica Worldwide Shipping Inc., 4101 Elrey Road, Orlando, FL 32808. Officer: Selvin Gabriel, President (Qualifying Individual).

Combitrans Logistics, Inc., 4930 Dacoma Street, Suite F, Houston, TX 77092. Officers: Luis Acosta, President (Qualifying Individual).

Acs Logistics, Inc., 801 Hanover Drive, Suite 150, Grapevine, TX 76051. Officers: Sonya Tomushunis, Asst. Secretary (Qualifying Individual), Richard Hulbert, Director.

Dated: February 2, 2007.
Karen V. Gregory,
Assistant Secretary.

[FR Doc. E7-2009 Filed 2-6-07; 8:45 am]

BILLING CODE 6730-01-P